DEPARTMENT OF TRANSPORTATION

Federal Aviation Administration

14 CFR Part 39

[Docket No. 2001-SW-05-AD; Amendment 39-12232; AD 2001-10-06]

RIN 2120-AA64

Airworthiness Directives; Sikorsky Aircraft Corporation Model S-76A, S-76B, and S-76C Helicopters

AGENCY: Federal Aviation Administration, DOT.

ACTION: Final rule.

SUMMARY: This amendment supersedes an existing airworthiness directive (AD) that applies to Sikorsky Aircraft Corporation (Sikorsky) Model S-76A, S-76B, and S-76C helicopters and currently requires, before further flight, performing a fluorescent penetrant inspection (FPI) of the main rotor shaft assembly (shaft). Also, a recurring FPI and visual inspection for a cracked shaft are required by that AD. That AD also requires replacing the shaft with an airworthy shaft before further flight if a crack is found. This amendment requires replacing certain serial numbered shafts with an airworthy shaft before further flight. This amendment is prompted by further investigation and a determination that the inspections can be safely eliminated if certain serial-numbered shafts are removed from service before further flight. The actions specified by this AD are intended to prevent failure of the shaft and subsequent loss of control of the helicopter.

EFFECTIVE DATE: June 21, 2001.

FOR FURTHER INFORMATION CONTACT: Wayne Gaulzetti, Aviation Safety Engineer, Boston Aircraft Certification Office, 12 New England Executive Park, Burlington, MA 01803, telephone (781) 238-7156, fax (781) 238-7199.

SUPPLEMENTARY INFORMATION: A proposal to amend part 39 of the Federal Aviation Regulations (14 CFR part 39) by superseding AD 2000-23-52, Amendment 39-12095 (66 FR 8507, February 1, 2001), which applies to Sikorsky Model S-76A, S-76B, and S-76C helicopters, was published in the Federal Register on March 15, 2001 (66 FR 15062). That action proposed to require, before further flight, replacing each shaft, part number 76351-09030—all dash numbers, serial number B015-00700 through B015-00706, with an airworthy shaft.

Interested persons have been afforded an opportunity to participate in the making of this amendment. No comments were received on the proposal or the FAA's determination of the cost to the public. The FAA has determined that air safety and the public interest require the adoption of the rule as proposed.

The FAA estimates that 3 helicopters of U.S. registry would be affected by this AD, that it would take approximately 5 work hours per helicopter to replace the shafts, and that the average labor rate is $60 per work hour. Required parts would cost approximately $19,000 per helicopter. Based on these figures, the total cost impact of the AD on U.S. operators is estimated to be $57,900.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12095 (66 FR 8507, February 1, 2001), and by adding a new airworthiness directive (AD), Amendment 39-12232, to read as follows:

AD 2001-10-06 Sikorsky Aircraft Corporation: Amendment 39-12232. Docket No. 2001-SW-05-AD. Supersedes AD 2000-23-52, Amendment 39-12095, Docket No. 2000-SW-61-AD.

Applicability: Model S-76A, S-76B, and S-76C helicopters with main rotor shaft assembly (shaft), part number 76351-09030-all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight, unless accomplished previously.

To prevent failure of the shaft and subsequent loss of control of the helicopter:

(a) Replace each affected shaft, serial number B015-00700 through B015-00706, with an airworthy shaft.

Note 2: Sikorsky Alert Service Bulletin No. 76-66-32A (319A), Revision A, dated January 17, 2001, pertains to the subject of this AD.

(b) An alternative method of compliance or adjustment of the compliance time that provides an acceptable level of safety may be used if approved by the Manager, Boston Aircraft Certification Office (ACO), FAA. Operators shall submit their requests through an FAA Principal Maintenance Inspector, who may concur or comment and then send it to the Manager, Boston ACO.

Note 3: Information concerning the existence of approved alternative methods of compliance with this AD, if any, may be obtained from the Boston ACO.

(c) Special flight permits may be issued in accordance with sections 21.197 and 21.199 of the Federal Aviation Regulations (14 CFR 21.197 and 21.199) to operate the helicopter to a location where the requirements of this AD can be accomplished.

(d) This amendment becomes effective on June 21, 2001.

Issued in Fort Worth, Texas, on May 10, 2001.
Larry M. Kelly,
Acting Manager, Rotorcraft Directorate, Aircraft Certification Service.

[FR Doc. 01-12336 Filed 5-16-01; 8:45 am]

BILLING CODE 4910-13-P